DEPARTMENT OF THE INTERIOR

Fish and Wildlife Service

[Docket No. FWS-R4-ES-2023-0037; FXES11140400000-223-FF04EF4000]

Receipt of Enhancement of Survival Permit Applications in Support of Quail Country Programmatic Candidate Conservation Agreement With Assurances for North Florida and Southwest Georgia; Categorical Exclusion

AGENCY: Fish and Wildlife Service, Interior.

ACTION: Notice of availability; request for comments.

SUMMARY: We, the Fish and Wildlife Service (Service), announce receipt of two separate applications, one each from the Florida Fish and Wildlife Conservation Commission (FWC) and the Georgia Department of Natural Resources (GADNR), for enhancement of survival permits under the Endangered Species Act. The FWC and GADNR have each applied for a separate permit associated with the implementation of the Quail Country Programmatic Candidate Conservation Agreement with Assurances (CCAA) for 12 species in North Florida and Southwest Georgia. Successful implementation of the CCAA is expected to enhance the habitat of the species and protect their habitats from destruction and degradation. We request public comment on the applications, which include the CCAA, and on the Service's preliminary determination that the proposed permitting actions may be eligible for a categorical exclusion pursuant to the Council on Environmental Quality's National Environmental Policy Act (NEPA) regulations, the Department of the Interior's (DOI) NEPA regulations, and the DOI Departmental Manual. To make this preliminary determination, we prepared a draft environmental action statement and low-effect screening form, both of which are also available for public review. We invite comment from the public and local, State, Tribal, and Federal agencies.

DATES: We must receive your written comments on or before May 11, 2023.

ADDRESSES:

Obtaining Documents: You may obtain copies of the documents online in Docket No. FWS-R4-ES-2023-0037 at https://www.regulations.gov.

Submitting Comments: If you wish to submit comments on any of the documents, you may do so in writing by one of the following methods:

• Online: https://www.regulations.gov. Follow the instructions for submitting comments on Docket No. FWS-R4-ES-2023-0037.

• U.S. mail: Public Comments Processing, Attn: Docket No. FWS-R4-ES-2023-0037; U.S. Fish and Wildlife Service, MS: JAO/3W, 5275 Leesburg Pike, Falls Church, VA 22041-3803.

FOR FURTHER INFORMATION CONTACT: Michele Elmore, by U.S. mail (see ADDRESSES), by telephone 706-544-6428, or via email at michele_elmore@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from the Florida Fish and Wildlife Conservation Commission (FWC) and the Georgia Department of Natural Resources (GADNR) (collectively, applicants) for enhancement of survival permits associated with a candidate conservation agreement with assurances (CCAA) under the Endangered Species Act of 1973, as amended (ESA; 16 U.S.C. 1531 et seq.).

The applications address the potential take of 12 species via implementation of the CCAA on eligible non-Federal lands in Gadsden, Jackson, Jefferson, Leon, Madison, Taylor, and Wakulla Counties, Florida, as well as in Baker, Brooks, Calhoun, Colquitt, Crisp, Decatur, Dodge, Dooly, Dougherty, Grady, Lee, Macon, Marion, Miller, Mitchell, Pulaski, Schley, Sumter, Talbot, Taylor, Terrell, Thomas, Tift, Turner, Seminole, Webster, Wilcox, and Worth Counties, Georgia (collectively “Quail Country”). Covered species include the eastern diamondback rattlesnake (Crotalus adamanteus), Florida pine snake (Pituophis melanoleucus mugitus), frosted elfin (Callophrys irus), gopher frog (Lithobates (Rana) capito), gopher tortoise (Gopherus polyphemus), Henslow's sparrow (Ammodramus henslowii), monarch butterfly (Danaus plexippus), southeastern American kestrel (Falco sparverius paulus), southeastern pocket gopher (Geomys pinetis), southern hognose snake (Heterodon simus), striped newt (Notophthalmus perstriatus), and a raptor, the swallow-tailed kite (Elanoides forficatus) (collectively, “covered species”).

The CCAA was developed to facilitate collaboration between private property owners and State and Federal agencies to benefit the covered species on enrolled lands in accordance with the Service's CCAA policy (81 FR 95164; December 27, 2016) and regulations (50 CFR 17.22(d) and 50 CFR 17.32(d)). Tall Timbers Research Station and Land Conservancy will act as a cooperator under this CCAA. Successful implementation of the CCAA is expected to enhance and protect the habitat of the covered species from destruction and degradation, which are the most common threats to the species. This CCAA is unique in that some of the covered species are listed by the FWC as State endangered, threatened, species of special concern, or rare species. Typically, a CCAA and an enhancement of survival permit would provide an enrolled non-Federal property owner with Federal regulatory assurances any CCAA-covered species that become federally listed under the ESA in the future. In this case, an enrolled property owner would not only receive assurances from the Service in the event of Federal listing, but also regulatory assurances from the FWC for species that are already State listed in Florida [Rule 68A-27.007(2)(c), F.A.C.].

The applicants have requested a term of 30 years for the permits, with the possibility of extension if requested by the applicants prior to permit expiration. We request public comment on the applications, which include the applicants' CCAA, and on the Service's preliminary determination that the proposed permitting actions may qualify for a categorical exclusion pursuant to the Council on Environmental Quality's National Environmental Policy Act (NEPA) regulations (40 CFR 1501.4), the Department of the Interior (DOI) NEPA regulations (43 CFR 46), and the DOI Departmental Manual (516 DM 8.5(C)(2)). To make this preliminary determination, we prepared a draft environmental action statement and low-effect screening form, both of which are also available for public review.

Candidate Conservation Agreements With Assurances

Under a CCAA, participating property owners voluntarily undertake management activities on their lands to remove or reduce threats and enhance, restore, or maintain habitat benefiting species that may warrant listing under the ESA. CCAAs encourage private and other non-Federal property owners to implement conservation efforts for candidate and at-risk species on their lands by assuring they will not be subjected to increased property use restrictions should the species become listed as “threatened” or “endangered” under the ESA in the future. Application requirements and issuance criteria for CCAAs are found in 50 CFR 17.22(d) and 17.32(d).

National Environmental Policy Act Compliance

The issuance of these permits is a Federal action that triggers the need for compliance with NEPA. The Service has made a preliminary determination that the proposed permit issuance is eligible for categorical exclusion under NEPA, based on the following criteria: (1) Implementation of the CCAA would result in minor or negligible adverse effects on federally listed, proposed, and candidate species and their habitats; (2) implementation of the CCAA would result in minor or negligible adverse effects on other environmental values or resources; and (3) impacts of the CCAA, considered together with the impacts of other past, present, and reasonably foreseeable similarly situated projects, would not result over time in significant cumulative adverse effects to environmental values or resources. To make this determination, we used our low-effect screening form, which is also available for public review.

Public Availability of Comments

Before including your address, phone number, email address, or other personal identifying information in your comment, be aware that your entire comment, including your personal identifying information, may be made available to the public. While you may request that we withhold your personal identifying information, we cannot guarantee that we will be able to do so.

Next Steps

The Service will evaluate the applications and the comments to determine whether to issue the requested permits. We will also conduct an intra-Service consultation pursuant to section 7 of the ESA to evaluate the effects of the proposed take of the species. After considering the preceding and other matters, we will determine whether the permit issuance criteria of section 10(a)(1)(A) of the ESA have been met. If met, the Service will issue a permit to each of the applicants (Georgia PER0119056 and Florida PER0119117) for incidental take of the covered species in accordance with the CCAA.

Authority

The Service provides this notice under section 10(c) of the ESA (16 U.S.C. 1531 et seq.) and its implementing regulations (50 CFR 17.22 and 17.32) and NEPA (42 U.S.C. 4321 et seq.) and its implementing regulations (40 CFR 1500-1508 and 43 CFR 46).

Peter Maholland,
Field Supervisor, Georgia Ecological Services Field Office.

[FR Doc. 2023-07532 Filed 4-10-23; 8:45 am]

BILLING CODE 4333-15-P